DEPARTMENT OF COMMERCE

International Trade Administration

[A-552-802]

Certain Frozen Warmwater Shrimp From the Socialist Republic of Vietnam: Initiation and Preliminary Results of Changed Circumstances Review

AGENCY: Enforcement and Compliance, formerly Import Administration, International Trade Administration, Department of Commerce.

SUMMARY: In response to a request for a changed circumstances review (“CCR”) of Gallant Ocean (Vietnam) Co., Ltd. (“Gallant Ocean”) and its subsidiary, Gallant Ocean (Quang Ngai), Co. Ltd. (“Quang Ngai”), the Department of Commerce (“Department”) is initiating a CCR of the antidumping duty order on certain frozen warmwater shrimp from the Socialist Republic of Vietnam (“Vietnam”). We have preliminarily determined that Gallant Dachan Seafood Co., Ltd. (“Dachan”) is the successor-in-interest to Quang Ngai, and, as a result, should be accorded the same treatment previously accorded to Quang Ngai. Interested parties are invited to comment on these preliminary results.

DATES: Effective Date: January 10, 2014.

FOR FURTHER INFORMATION CONTACT: Ricardo Martinez Rivera or Bob Palmer, Office V, Enforcement and Compliance, International Trade Administration, U.S. Department of Commerce, 14th Street and Constitution Avenue NW., Washington, DC 20230; telephone: at (202) 482-4532 or (202) 482-9068, respectively.

SUPPLEMENTARY INFORMATION:

Background

The Department published the antidumping duty order on certain frozen warmwater shrimp from Vietnam on February 1, 2005.¹ In the fourth administrative review, we granted Gallant Ocean a separate rate.² In the sixth administrative review (i.e., February 1, 2010, through January 31, 2011), Gallant Ocean acquired Quang Ngai, and in that review and in the seventh administrative review, we assigned Quang Ngai a separate rate (i.e., zero percent).³ On October 31, 2013,⁴ Gallant Ocean informed the Department that it had reduced ownership in Quang Ngai and changed its name, and petitioned the Department to conduct a CCR to confirm that Dachan is the successor-in-interest to Quang Ngai, for purposes of determining antidumping duties due as a result of the Order.⁵

¹ See Notice of Amended Final Determination of Sales at Less Than Fair Value and Antidumping Duty Order: Certain Frozen Warmwater Shrimp From the Socialist Republic of Vietnam, 70 FR 5152 (February 1, 2005) (“Order”).

² See Certain Frozen Warmwater Shrimp from the Socialist Republic of Vietnam: Final Results and Partial Rescission of Antidumping Duty Administrative Review, 75 FR 47771 (August 9, 2010).

³ See Certain Frozen Warmwater Shrimp From the Socialist Republic of Vietnam: Final Results and Final Partial Rescission of Antidumping Duty Administrative Review, 77 FR 55800, 55802 (September 11, 2012), unchanged in Frozen Warmwater Shrimp From the Socialist Republic of Vietnam: Amended Final Results and Partial Final Rescission of Antidumping Duty Administrative Review, 77 FR 64102, 64103 (October 18, 2012); see also Certain Frozen Warmwater Shrimp from the Socialist Republic of Vietnam: Final Results and Final Partial Rescission of Antidumping Duty Administrative Review, 78 FR 56211-14 (September 12, 2013).

⁴ This changed circumstances review was originally filed on September 30, 2013, within the seventh administrative review for frozen shrimp from Vietnam. Pursuant to instructions from the Department, Gallant Ocean re-filed this changed circumstances review on October 31, 2013.

⁵ See Letter from Gallant Ocean, dated October 31, 2013, at 3.

Scope of the Order

The merchandise subject to the order is certain frozen warmwater shrimp. The product is currently classified under the following Harmonized Tariff Schedule of the United States item numbers: 0306.17.00.03, 0306.17.00.06, 0306.17.00.09, 0306.17.00.12, 0306.17.00.15, 0306.17.00.18, 0306.17.00.21, 0306.17.00.24, 0306.17.00.27, 0306.17.00.40, 1605.21.10.30, and 1605.29.10.10. The written description of the scope of the order is dispositive. A full description of the scope of the order is available in the accompanying Issues and Decision Memorandum.⁶

⁶ For a full description of the scope of the Order, see Certain Frozen Warmwater Shrimp from the Socialist Republic of Vietnam: Issues and Decision Memorandum for the Final Results, (“Issues and Decision Memorandum”) dated September 6, 2013.

Initiation and Preliminary Results of Changed Circumstances Review

Pursuant to section 751(b)(1) of the Tariff Act of 1930, as amended (“the Act”), and 19 CFR 351.216, the Department will conduct a CCR upon a request from an interested party for a review of an antidumping duty order which shows changed circumstances sufficient to warrant a review of the order. The information submitted by Gallant Ocean supporting its claim that Dachan is the successor-in-interest to Quang Ngai, demonstrates changed circumstances sufficient to warrant such a review.⁷

⁷ See 19 CFR 351.216(d); see also Notice of Initiation and Preliminary Results of Antidumping Duty Changed Circumstances Review: Carbon and Certain Alloy Steel Wire Rod From Mexico, 75 FR 67685 (November 3, 2010).

In accordance with the above-referenced regulation, the Department is initiating a CCR to determine whether Dachan is the successor-in-interest Quang Ngai. In determining whether one company is the successor-in-interest to another, the Department examines a number of factors including, but not limited to, changes in management, production facilities, supplier relationships, and customer base.⁸ Although no single factor will necessarily provide a dispositive indication of succession, generally, the Department will consider one company to be a successor-in-interest to another company if its resulting operation is similar to that of its predecessor.⁹ Thus, if the evidence demonstrates that with respect to the production and sale of the subject merchandise, the new company operates as the same business entity as the prior company, the Department will assign the new company the cash-deposit rate of its predecessor.¹⁰

⁸ See Industrial Phosphoric Acid From Israel; Final Results of Antidumping Duty Changed Circumstances Review, 59 FR 6944 (February 14, 1994).

⁹ See Brass Sheet and Strip From Canada; Final Results of Antidumping Duty Administrative Review, 57 FR 20460 (May 13, 1992).

¹⁰ Id.; Notice of Final Results of Changed Circumstances Antidumping Duty Administrative Review: Polychloroprene Rubber From Japan, 67 FR 58 (January 2, 2002); see also Ball Bearings and Parts Thereof from France: Final Results of Changed-Circumstances Review, 75 FR 34688 (June 18, 2010) (the Department found successorship where the company changed its ownership structure, but made only minor changes to its operations, management, supplier relationships, and customer base).

In its October 31, 2013, submission, Gallant Ocean provided information to demonstrate that Dachan is the successor-in-interest to Quang Ngai. Specifically, the record in this review indicates: (1) That, except for the financial manager, management which operated Dachan is the same which operated Quang Ngai; ¹¹ (2) Dachan retained the same physical address and equipment as Quang Ngai and that production continued uninterrupted; ¹² (3) that Dachan continued to purchase raw shrimp and packing materials from the same suppliers; ¹³ (4) that Dachan continued to supply the same U.S. customer base.¹⁴ Under these circumstances, the Department preliminarily finds that Dachan operates as the same business entity as Quang Ngai. Given the continuity described above, we have preliminarily determined that no material change has occurred with respect to Quang Ngai's management, production facilities, suppliers, or customer base as a result of the name change to Dachan.

¹¹ See Letter from Gallant Ocean, dated October 31, 2013, at 4 and Exhibit 4.

¹² See id., at 5, and Exhibits 1 and 2.

¹³ See id., at 5, and Exhibit 5.

¹⁴ See id., at 5-6, and Exhibit 5.

When it concludes that expedited action is warranted, the Department may publish the notice of initiation and preliminary results for a CCR concurrently.¹⁵ We have determined that expedition of this CCR is warranted because we have the information necessary to make a preliminary finding already on the record.¹⁶ In this case, we preliminarily find that Dachan is the successor-in-interest to Quang Ngai and, as such, is entitled to Quang Ngai's cash-deposit rate with respect to entries of subject merchandise.

¹⁵ See 19 CFR 351.221(c)(3)(ii); see also Initiation and Preliminary Results of Antidumping Duty Changed Circumstances Review: Canned Pineapple Fruit From Thailand, 69 FR 30878 (June 1, 2004).

¹⁶ See Ball Bearings and Parts Thereof from Japan: Initiation and Preliminary Results of Changed Circumstances Review, 71 FR 14679 (March 23, 2006).

Should our final results remain the same as these preliminary results, effective the date of publication of the final results, we will instruct U.S. Customs and Border Protection to assign entries of merchandise produced or exported by Dachan the antidumping duty cash-deposit rate applicable to Quang Ngai.

Public Comment

Any interested party may request a hearing within 14 days of publication of this notice, in accordance with 19 CFR 351.310(c). Interested parties may submit case briefs and/or written comments no later than 30 days after the date of publication of this notice. Rebuttal briefs and rebuttals to written comments, which must be limited to issues raised in such briefs or comments, may be filed not later than 5 days after the case briefs. Any hearing, if requested, will normally be held two days after rebuttal briefs are due, in accordance with 19 CFR 351.310(d)(1). Parties who submit case briefs or rebuttal briefs in this CCR are requested to submit with each argument (1) a statement of the issue and (2) a brief summary of the argument with an electronic version included. Consistent with 19 CFR 351.216(e), we will issue the final results of this CCR no later than 270 days after the date on which this review was initiated or within 45 days of publication of these preliminary results if all parties agree to our preliminary finding.

We are issuing and publishing this initiation and preliminary results notice in accordance with sections 751(b)(1) and 777(i)(1) of the Act and 19 CFR 351.216 and 351.221(c)(3).

Dated: January 3, 2014.
Christian Marsh,
Deputy Assistant Secretary for Antidumping and Countervailing Duty Operations.

[FR Doc. 2014-00194 Filed 1-9-14; 8:45 am]

BILLING CODE 3510-DS-P